DEPARTMENT OF TRANSPORTATION

Office of the Secretary

Passsenger Manifest Information

AGENCY: Office of the Secretary, DOT.

ACTION: Notice and request for comments.

SUMMARY: In accordance with the Paperwork Reduction Act of 1995 (44 U.S.C. chapter 35, as amended), this notice announces the Department of Transportation's (DOT) intention to request the extension of a previously approved collection.

DATES: Comments on this notice must be received May 22, 2001.

ADDRESSES: Comments should be directed to the Competition and Policy Analysis Division (X-55), Office of Aviation Analysis, Office of the Secretary, US Department of Transportation, 400 Seventh Street, SW., Washington, DC 20590.

FOR FURTHER INFORMATION CONTACT: Jack Schmidt, Competition and Policy Analysis Division (X-55), Office of Aviation Analysis, Office of the Secretary, US Department of Transportation, 400 Seventh Street, SW., Washington, DC 20590, (202) 366-5420.

SUPPLEMENTARY INFORMATION: Title: Passenger Manifest Information.

Expiration Date: May 31, 2001.

OMB Control Number: 2106-0534.

Type of Request: Extension of a previously approved collection.

Abstract: Public Law 101-604 (entitled the Aviation Security Improvement Act of 1990, or “ASIA 90,” and which was later codified as 49 U.S.C. 44909) requires that certificated air carriers and large foreign air carriers collect the full name of each U.S. citizen traveling on flight segments to or from the United States and solicit a contact name and telephone number. In case of an aviation disaster, airlines would be required to provide the information to the Department of State and, in certain instances, to the National Transportation Safety Board. Each carrier would develop its own collection system. The Passenger Manifest Information; Final Rule (14 CFR 243) was published in the Federal Register 63 FR 8257, February 18, 1998. The rule was effective March 20, 1998.

Respondents: U.S. and foreign air carriers.

Estimated Number of Respondents: 23,245.

Total Annual Responses: 53.8 million.

Estimated Total Burden on Respondents: 1.05 million hours.

Comments are invited on: (a) Whether the proposed collection of information is necessary for the proper performance of the functions of the Department, including whether the information will have practical utility; (b) the accuracy of the Department's estimate of the burden of the proposed information collection; (c) ways to enhance the quality, utility, and clarity of the information to be collected, and (d) ways to minimize the burden of the collection of information of respondents, including the use of automated collection techniques or other forms of information technology.

All responses to this notice will be summarized and included in the request for OMB approval. All comments will also become a matter of public record.

Issued in Washington DC on March 19, 2001.
Randall D. Bennett,
Director, Office of Aviation Analysis.

[FR Doc. 01-7269 Filed 3-22-01; 8:45 am]

BILLING CODE 4910-62-U